DEPARTMENT OF THE INTERIOR

Fish and Wildlife Service

[Docket No. FWS-R7-ES-2012-0019; FF07CAMM00-FXFR13370700000M7]

Marine Mammal Protection Act; Stock Assessment Reports

AGENCY: Fish and Wildlife Service, Interior.

ACTION: Notice of availability of final reports; response to comments.

SUMMARY: In accordance with the Marine Mammal Protection Act of 1972, as amended (MMPA), we, the U.S. Fish and Wildlife Service (Service), announce that we have revised our stock assessment report (SAR) for the Pacific walrus (Odobenus rosmarus divergens) stock and for each of the following northern sea otter (Enhydra lutris kenyoni) stocks in Alaska: Southwest, Southcentral, and Southeast. We now make these four final revised SARs available to the public.

ADDRESSES: Document Availability: You may view the revised SARs at http://www.regulations.gov under Docket No. FWS-R7-ES-2012-0019. You may also view them in Adobe Acrobat format by navigating to the species information page at http://alaska.fws.gov/fisheries/mmm/reports.htm. Alternatively, you may contact the Chief, Marine Mammals Management, U.S. Fish and Wildlife Service, 1011 East Tudor Road, MS-341, Anchorage, AK 99503; telephone: (907) 786-3800.

FOR FURTHER INFORMATION CONTACT: Charles S. Hamilton, Marine Mammals Management Office, (800) 362-5148 (telephone). Persons who use a telecommunications device for the deaf (TDD) may call the Federal Information Relay Service at (800) 877-8339.

SUPPLEMENTARY INFORMATION:

Background

Under the MMPA (16 U.S.C. 1361 et seq.) and its implementing regulations in the Code of Federal Regulations (CFR) at 50 CFR part 18, we regulate the taking, possession, transportation, purchasing, selling, offering for sale, exporting, and importing of marine mammals. One of the goals of the MMPA is to ensure that stocks of marine mammals occurring in waters under U.S. jurisdiction do not experience a level of human-caused mortality and serious injury that is likely to cause the stock to be reduced below its optimum sustainable population (OSP) level. OSP is defined under the MMPA as “* * * the number of animals which will result in the maximum productivity of the population or the species, keeping in mind the carrying capacity of the habitat and the health of the ecosystem of which they form a constituent element” (16 U.S.C. 1362(9)).

To help accomplish the goal of maintaining marine mammal stocks at their OSPs, section 117 of the MMPA requires the Service and the National Marine Fisheries Service (NMFS) to prepare a SAR for each marine mammal stock that occurs in waters under U.S. jurisdiction. Each SAR must include:

1. A description of the stock and its geographic range;

2. A minimum population estimate, maximum net productivity rate, and current population trend;

3. An estimate of human-caused mortality and serious injury;

4. A description of commercial fishery interactions;

5. A categorization of the status of the stock; and

6. An estimate of the potential biological removal (PBR) level.

The MMPA defines the PBR as “the maximum number of animals, not including natural mortalities, that may be removed from a marine mammal stock while allowing that stock to reach or maintain its OSP” (16 U.S.C. 1362(20)). The PBR is the product of the minimum population estimate of the stock (Nmin); one-half the maximum theoretical or estimated net productivity rate of the stock at a small population size (Rmax); and a recovery factor (Fr) of between 0.1 and 1.0. This can be written as:

PBR = (Nmin)(½ of the Rmax)(Fr)

Section 117 of the MMPA requires the Service and NMFS to review the SARs: (a) At least annually for stocks that are specified as strategic stocks; (b) at least annually for stocks for which significant new information is available; and (c) at least once every 3 years for all other stocks. If our review of the status of a stock indicates that it has changed or may be more accurately determined, then the SAR must be revised accordingly.

A strategic stock is defined in the MMPA as a marine mammal stock “(a) for which the level of direct human-caused mortality exceeds the PBR level; (b) which, based on the best available scientific information, is declining and is likely to be listed as a threatened species under the Endangered Species Act of 1973, as amended (16 U.S.C. 1531 et seq.) [the “ESA”], within the foreseeable future; or (c) which is listed as a threatened species or endangered species under the [ESA], or is designated as depleted under [the MMPA]” (16 U.S.C. 1362(19)).

The Pacific walrus SAR was last revised in December of 2009. In the final 2009 revised SAR, we classified the Pacific walrus as a strategic stock because the total human-caused mortality or removals exceeded PBR. Therefore, the Service has reviewed the stock assessment for the Pacific walrus annually and, in 2010, concluded that revision of the SAR was not warranted at that time because the status of the stock had not changed significantly and could not be more accurately determined. Stock assessment reports for the Southwest, Southcentral, and Southeast stocks of northern sea otters were last revised in August of 2008. The Southwest stock of northern sea otter qualifies as a strategic stock due to its listing as a threatened species under the ESA; therefore, the Service has reviewed the SAR for the Southwest stock annually and, in 2009 and 2010, concluded both times that revision of the SAR was not warranted because the status of the stock had not changed and could not be more accurately determined. Although the Southcentral and Southeast stocks of northern sea otter are considered non-strategic, the Service also reviewed these SARs in 2009 and 2010 due to the availability of significant new information. During both these reviews, the Service determined that revision of the SARs for the Southcentral and Southeast stocks of northern sea otter was not warranted. However, upon review of significant new information on all four stocks available in 2011, the Service determined that revisions was warranted for the Pacific walrus stock, as well as the Southwest, the Southcentral, and the Southeast northern sea otter stocks; the Service has consulted with the Alaska Regional Scientific Review Group concerning these revisions.

In an April 18, 2013 (78 FR 23284) Federal Register notice, we made our draft SARs available for the MMPA-required 90-day public review and comment period. Following the close of the comment period, we revised the SARs based on public comments we received (see Response to Public Comments) and prepared the final revised SARs.

The following table summarizes the information we are now making available in the final revised SARs for the Pacific walrus and the Southwest, Southcentral and Southeast stocks of the northern sea otter, which lists the stocks' Nmin, Rmax, Fr, PBR, annual estimated human-caused mortality and serious injury, and status.

Final Revised Stock Assessment Reports for the Pacific Walrus, and Southwest, Southcentral, and Southeast Stocks of the Northern Sea Otter
Stock | Nmin | Rmax | Fr | PBR | Annual estimated human-caused mortality and serious injury (5-year average): Fishery/Other | Annual estimated human-caused mortality and serious injury (5-year average): Subsistence | Stock status
Pacific Walrus | 129,000 | 0.08 | 0.5 | 2,580 | 21 | 4,852 | Strategic.
Northern Sea Otter, Southwest Stock | 45,064 | 0.20 | 0.1 | 450 | <10 | 76 | Strategic.
Northern Sea Otter, Southcentral Stock | 14,661 | 0.20 | 1.0 | 1,466 | 1 | 293 | Non-strategic.
Northern Sea Otter, Southeast Stock | 21,798 | 0.20 | 1.0 | 2,179 | Unknown | 447 | Non-strategic.

Response to Public Comments

We received five submissions on the draft SARs (78 FR 23284). Commenters included the Marine Mammal Commission (MMC), the North Slope Borough, nongovernmental organizations, and a concerned citizen. We present substantive issues raised in those comments that are pertinent to the SARs, along with our responses, below.

General Public Comments That Apply to All of the SARS

Comment 1: The Service has not demonstrated that it met the statutory requirement that stock assessments be reviewed at least annually for strategic stocks.

Our Response: As required by section 117(c)(1)(A) of the MMPA, the Service annually reviews existing SARs for those stocks that are specified as strategic. If this review indicates that the status of that stock has changed or can be more accurately determined, the Service revises the SAR in accordance with section 117(b); such revisions are subject to public notice in the Federal Register and public comment. However, if, based on the Service's review, the agency concludes that the status of the stock has not changed or cannot be more accurately determined and revision is not warranted, section 117(c) does not require public notice and comment on the results of that review. In view of this, we acknowledge the public may not be aware of the results of the Service's review of stock assessments. Therefore, although not required under the MMPA, in the future we will update our Web page at http://alaska.fws.gov/fisheries/mmm/stock/stock.htm to inform the public of the results of our review of stock assessments for Pacific walruses, the three stocks of northern sea otters, as well as polar bears (Ursus maritimus).

Comment 2: The Service should estimate total annual human-caused mortality and serious injury and provide a clear statement describing that estimate in every stock assessment report.

Our Response: Each of the SARs provides a section on annual human-caused mortality and serious injuries, which includes information the Service uses to make that estimate for each stock, as reported in the summary table above, i.e., Final Revised Stock Assessment Reports for the Pacific Walrus, and Southwest, Southcentral, and Southeast Stocks of the Northern Sea Otter. We base our estimate of annual human-caused mortalities and serious injuries on the best information that is available to us. The Service also estimates other factors that are suspected to be the cause of a decline or an impediment to recovery for strategic stocks.

Comment 3: The Service should collaborate with the NMFS to assess human effects more completely by: (1) Developing a framework for describing the full effects, both direct and indirect, of all human activities that may cause serious injury or mortality of marine mammals; and (2) incorporating that framework into stock assessment reports.

Our Response: The Service acknowledges the importance of collaboration and works with NMFS to the extent we are able in addressing management and conservation issues for marine mammal species. Although developing standardized frameworks can be helpful, the species managed by the two agencies have very diverse needs and often face different challenges. For example, the types of human-caused mortalities with the most impact to sea otters in Alaska are unlike those with the most impact to cetaceans or even pinnipeds. Therefore, it is not always the best use of limited resources to invest in collaboration if the end result cannot be applied by both agencies. In addition, the resources available to the agencies are not always balanced in a particular area; each agency must prioritize its resources to address a myriad of challenges specific to that agency. Nonetheless, the Service will continue to work with NMFS to address general issues of similar nature.

Comment 4: The Service should include a statement about the status of each stock relative to its OSP in each of its stock assessment reports.

Our Response: Section 117(a)(5) of the MMPA directs the Service to categorize the status of the stock as one that either: (a) Has a level of human-caused mortality and serious injury that is not likely to cause the stock to be reduced below its OSP; or (b) is a strategic stock. The Pacific walrus is categorized as a strategic stock because the level of direct human-caused mortality exceeds the PBR. The Southwest northern sea otter stock is also categorized as a strategic stock due to its listing as a threatened species under the ESA. The Southcentral and Southeast stocks of northern sea otter are both considered non-strategic because the level of direct human-caused mortality and serious injury does not exceed the PBR in either stock nor is either near the level of human-caused mortality that would likely exceed PBR. In addition, although the Service does not currently know the OSP for these two stocks, based on the known population levels and our estimate of growth and considering the known level of human-caused mortality, we have determined that these stocks are increasing and that human-caused mortality and serious injury is not likely to cause the stocks to be reduced or to decrease their growth rates. Therefore, we would not expect the current level of human-caused mortality and serious injury to cause these stocks to be reduced below their plausible OSP. We have included this information in these two SARs

Comments on the Southeast Alaska Northern Sea Otter Stock

Comment 5: The data used in the SAR does not have adequate reference to published literature; therefore, the Service should assure publication of abundance estimates in formal and publically available literature.

Our Response: The Service uses the best scientific information available, which sometimes includes information that has not yet been published in the scientific literature. All literature, including unpublished reports, is available from the Service (or other office as identified) upon request.

Comment 6: The Service should work with the National Marine Fisheries Service (NMFS) to place observers on the unobserved gillnet fisheries and to attempt an estimation of entanglement rates in trap/pot gear.

Our Response: The Service recognizes that a fisheries observer program is a beneficial tool to quantify marine mammal and fisheries interactions. However, we note that current information indicates there are minimal impacts to sea otter populations from this fishery. In light of this and our limited resources, we have not pursued such a program for Service trust species.

Comment 7: There is no discussion of illegal harvest, though illegal hunting and trading have been prosecuted by the Service in a number of years; therefore, the Service should add to its SARs the annual number of animals that are known to have been illegally killed, whether by harvesters or unknown sources.

Our Response: The Service agrees, and information on illegal and unreported harvest has been added to the SARs. For example, between 2008 and 2012, a total of 145 sea otter pelts across all stocks were recovered by the Service's Law Enforcement Division for various violations of the MMPA. We have also added information about boat strikes.

Comment 8: The Service should revise its estimates of the minimum population estimate and potential biological removal (PBR) levels for sea otters using data only from surveys less than 8 years old, as recommended in the report entitled, “Revisions to Guidelines for Assessing Marine Mammal Stocks” (GAMMS II).

Our Response: While the Service was involved in the GAMMS workshops (NMFS 2005, Moore and Merrick 2011), the GAMMS guidelines are not currently considered Service policy. Consistent with MMPA Section 117, however, the Service uses the best scientific information available.

Comment 9: The Service should: (1) Develop strategic plans and conduct the surveys necessary to provide precise and accurate abundance estimates for all three Alaska sea otter stocks; and (2) use that information in its management of those stocks and assessments of risk factors affecting them.

Our Response: In 2005, the Service, the Alaska SeaLife Center, and the U.S. Geological Survey (USGS) developed a strategic plan to conduct sea otter surveys in Alaska (“A Population Monitoring Plan for Sea Otters in Alaska,” July 1, 2005), which is available upon request. However, due to budgetary constraints the Service has been unable to fully implement the plan.

Comment 10: The Service should revise the distribution and stock boundary maps of each sea otter stock to provide more detailed, stock-specific information, including the track lines of surveys conducted in the last 8 years.

Our Response: Inclusion of track lines from surveys is beyond the scope of the SARs. This information is available in other published and unpublished literature; it is also available from the Service on request.

Comment 11: The Service should review available information on stock structure of northern sea otters to determine if there are more than three sea otter stocks in Alaska.

Our Response: Subject to available funds, the Service plans to pursue genetics work to examine stock structure of northern sea otters. If the study is completed, the Service will evaluate the results and determine their application.

Comments on the Southcentral Alaska Stock

See Comments 5 and 11 for the Southeast Alaska Northern Sea Otter Stock above.

Comments on the Southwest Alaska Stock

Comment 12: There is apparently no finalized recovery plan in place despite publication of a draft in 2010.

Our Response: The Southwest Alaska Distinct Population Segment of the Northern Sea Otter (Enhydra lutris kenyoni) Recovery Plan was finalized in August 2013 and is available on our Web site: http://alaska.fws.gov/fisheries/mmm/seaotters/recovery.htm.

Comment 13: Without new information, the Service has not adequately explained how it has reached its conclusion regarding the status of the stock and should therefore revise this language to provide a lesser degree of certitude regarding stock trends.

Our Response: The text in the SAR for the Southwest Alaska stock has been revised to better explain the source of the new information about trends in abundance for this stock and our conclusion that declining population trends have stabilized at low levels.

Comment 14: The Service's conclusion that the decline has halted and the growth rate has stabilized at zero is not consistent with GAMMS guidelines that recommend estimates more than 8 years in age must be considered inaccurate and should be precautionarily reduced.

Our Response: The Service's conclusion that population trends have stabilized in the western Aleutian Islands over the last 5 to 8 years is based on the best scientific information available, which is available in the document “Southwest Alaska DPS of the Northern Sea Otter (Enhydra lutris kenyoni) 5-Year Review: Summary and Evaluation,” available at: http://alaska.fws.gov/fisheries/mmm/seaotters/recovery.htm. In addition, as previously mentioned in response to comment 8, the GAMMS guidelines are not Service policy.

Comment 15: The Service should better address the potential for harvest to affect the overall trend in abundance of this stock, which is listed as threatened under the ESA.

Our Response: Harvest data for the Southwest Alaska stock of sea otters indicate that subsistence harvest continues to be variable and generally low. The current level of subsistence harvest is not excessive in relation to the population size, and the Service does not consider subsistence harvest to be a population-regulating factor. The Service recognizes that some sea otter harvest may not be reported, and that some unlawful take may have occurred and may occur in the future. However, the Service's Marking, Tagging, and Reporting Program (MTRP) provides the best information available on subsistence harvest levels.

Comment 16: There needs to be better tracking/monitoring of harvest levels.

Our Response: The Service's MTRP provides the best information available on harvest levels.

Comment 17: Actions by the Service to clarify the meaning of terms associated with the production of sea otter handicrafts, coupled with increased concerns on the part of commercial fisheries in southeast Alaska, will likely increase the harvest and may incentivize illegal take of otters in the adjacent and/or listed western stock.

Our Response: This issue is beyond the scope of these SARs.

Comments on the Pacific Walrus SAR

Comment 18: The Service should continue its efforts with the USGS to collaborate with Alaska Native communities to monitor the abundance and distribution of walruses, and to make full use of animals taken for subsistence and handicraft purposes to obtain data on demography, ecology, life history, behavior, health status, and other pertinent topics.

Our Response: Subject to available funds, we plan to continue these valuable efforts. The USGS and Alaska Natives are key partners in Pacific walrus management, conservation, and research. A good example of the effectiveness of our partnerships was the recently completed research cruise where the Service, USGS, and Alaska Department of Fish and Game (ADFG) were able to pool resources to initiate a population estimate study, conduct age and sex composition counts, and attach satellite tags to 34 animals. Two Alaska Native walrus hunters from Gambell and Savoonga were part of the sampling crew and their expertise in walrus behavior, navigating small boats in ice-covered seas, and weather patterns was instrumental in the success of that field effort.

Comment 19: The Service should work with the NMFS to generate a range-wide abundance estimate for Pacific walruses using data from the NMFS's recent and ongoing ice seal aerial surveys.

Our Response: We have had discussions with NMFS about the applicability of their ice seal surveys to estimate walrus abundance. The NMFS surveys were developed for ice seals, not walruses and would likely not provide a good estimate of walrus numbers due to use of different ice habitats by the species, differences in the distribution of walruses and the seals, and the arrangement of the transects. However, we plan to take a closer look at this data as it is available.

Comment 20: The Service should begin a status review under 16 U.S.C. 1383b(a) to determine whether the stock may warrant designation as “depleted,” and whether rulemaking pursuant to 16 U.S.C. 1371b is warranted.

Our Response: Due to resource constraints, the Service does not intend to initiate an MMPA status review for the Pacific walrus at this time. In addition, the Service also notes that it annually evaluates the status of the species under the ESA through the Candidate Notice of Review Program. Pursuant to a court-ordered settlement agreement, the Service is required to either issue a proposal for listing the Pacific walrus under the ESA or remove it as a candidate for listing by 2017. In the event that the Pacific walrus is listed as an endangered or threatened species, it would also be considered to be a depleted stock under the MMPA by virtue of the ESA listing.

Comment 21: The Service should revise its threats analysis for ocean acidification to include scientific studies showing that the Bering and Chukchi Seas are hotspots for ocean acidification, and that a dominant walrus prey group, bivalve mollusks, is one of the most sensitive marine taxa to the negative effects of ocean acidification.

Our Response: The Service recognizes ocean acidification as an emerging conservation issue. We considered studies showing potential impacts to bivalve mollusks in the Bering and Chukchi Seas. As we explained, walruses have the potential to switch to other prey items although we acknowledged that the general indications are that impacts appear more likely to be negative than positive or neutral (76 FR 7634; February 10, 2011). We will continue to monitor the potential impacts to Pacific walrus of ocean acidification in the future.

Comment 22: The Service should expand and update its analysis of the loss, thinning, and shorter duration of sea ice, which poses the primary threat to the Pacific walrus.

Our Response: In the SAR discussions concerning sea ice, we relied on a USGS ice modeling study specific to the Bering and Chukchi Seas (Douglas 2010) to assess this threat to the Pacific walrus. Since then, other modeling efforts (Kay et al. 2011, Maslowski et al. 2012, Overland and Wang 2013) suggest that ice loss could be more extensive and occur faster than the averages predicted by the USGS study, but those newer estimates are within the range of forecasts made in the USGS study. In addition, observations of ice loss are exceeding average model forecasts, but again are still within the range of model forecasts. Additionally, factors or threats that may or may not contribute to the species' risk of extinction are annually evaluated under the ESA through the Candidate Notice of Review Program/re-submitted petition process.

Comment 23: The Service should place more emphasis on the possible effects of climate change on walruses relative to subsistence hunting.

Our Response: Rather than address potential long-term effects of various threats, SARs address current information on the current status of marine mammal stocks. Additional information about the potential long-term effects of climate change on walruses is found in the 2011 ESA status review, the 2011 determination that listing the Pacific walrus as threatened or endangered on the ESA is warranted, and the subsequent annual candidate species reviews.

Comment 24: The Service should work with the USGS and co-management partners, including the North Slope Borough, to quickly and appropriately develop a method for monitoring the population size and trend of Pacific walruses.

Our Response: We are currently working with USGS, the Eskimo Walrus Commission (EWC), Alaska Native walrus hunters, Russian Native walrus hunters, and Russian biologists to develop and test a genetic mark-recapture method to estimate Pacific walrus population size and trend.

Comment 25: The statement that the “lack of harvest quotas in the United States beginning in 1979 and reduced productivity levels resulted in another population decline and the population is once again limited primarily by subsistence harvest” does not fit with previous paragraphs where the Service states that information is lacking on population size and trend. The SAR should be changed or a reference added to support the idea that subsistence harvest, not other factors, is limiting walrus populations.

Our Response: We have modified this sentence in the SAR to indicate that the population is “likely” limited primarily by subsistence harvest, “although other factors such as haulout mortalities may also be important.” Population trend and the prevalence of a limiting factor are not necessarily related; that is, a limiting factor may not be strong enough at any point in time to affect population trend. Population growth is nearly always limited by some factor even when the trend is positive and the population is increasing; populations rarely grow at their maximum rate due to accidents, disease, harvest, etc. Given that harvests are over 4,000 animals range-wide annually, observed fisheries mortalities in the United States are 0-3 animals per year, observed carcasses on the beach or in the water in the United States number fewer than 100 per year, evidence of disease and contaminants is rare, and coastal haulout mortalities range-wide have declined to fewer than 1,000 per year after 2007, it is reasonable to conclude that the subsistence harvest is the primary limiting factor.

Comment 26: One commenter questioned whether the Service's proposed genetic mark-recapture approach was the best approach for obtaining information on population status and trends.

Our Response: This issue is beyond the scope of the SAR.

Comment 27: One commenter questioned the Service's position that subsistence harvest limited the walrus population in light of the fact that harvest levels since 2006 are 5 to 68 percent lower than this long-term average.

Our Response: Trends in harvest numbers are not indicative of whether the harvest is a primary limiting factor or not. See our response to comment 25.

Comment 28: The Service adjusts harvest estimates by 42 percent to account for struck and lost animals. It is not clear, however, how the Service deals with walruses that are struck and lost and later retrieved; for example, hunters who find a carcass and remove the head but, do not salvage any meat because it is spoiled, would most likely have the tusks marked.

Our Response: The 42 percent struck and lost correction is applied only to animals that are identified as those harvested, not beach cast or otherwise recovered dead walruses. Therefore, such corrections are not included for tusks obtained from beach cast animals.

Comment 29: The caption for the harvest table mentions that levels are adjusted for unreported walruses using a mark-recapture method. One commenter requested additional information about the method.

Our Response: In general, tusks are given a unique mark by the Service when hunters return to the beach from a hunting trip and that mark is accounted for and removed when the tusks are subsequently submitted to the Service for permanent tagging by the hunter. The Service then compares the number of unique marks placed on tusks with the number of those marks “recaptured” when the tusks are permanently tagged. The tusk mark-recapture project is limited to the Native Villages of Gambell and Savoonga. The adjustment is for the U.S. harvest only, as Russia does not have a tusk tagging requirement. Further details on how harvest levels are estimated can be found in the 2011 status review.

Comment 30: One commenter asked how the Service proposes to use population numbers or trends in order to reduce the harvest without information about population size or trend.

Our Response: The Service is exploring new methods to obtain accurate information on walrus population numbers and trends. In the interim, there are a number of population indicators such as calf to cow ratios, age/sex composition counts, estimates of body condition, observations of Alaska Native hunters, expert opinion, Aerial Surveys of Arctic Marine Mammals results, haulout counts, and population modeling, to make an assessment of population status. We believe that such a weight of evidence approach in consultation and collaboration with our co-managers will provide information useful in making harvest prescriptions, if needed.

Comment 31: One commenter pointed out that, although the SARs state that several fisheries overlap with walrus distribution and, therefore, could interact with walruses, we provide information for only one fishery. Additional information is needed about the other fisheries that could interact with walruses and to support the implied conclusion that only one fishery may be a problem for walruses.

Our Response: For Federal waters, the Service receives information on interactions between fisheries and marine mammals from NMFS on an annual basis. That information includes all the fisheries within the range of the Pacific walrus in Federal waters. The fishery listed in the SAR is the only one that has ever reported walrus interactions. However, as noted, observer coverage varies with the fishery; the budget for the observer program is such that coverage has to be rotated among the various Federal fisheries. There may be fisheries in State waters that could interact with walruses, but we are not aware of any issues. Observer coverage is not required for salmon and herring fisheries; while observer coverage is 100 percent for State-managed shellfish and scallop fisheries, no interactions with walruses have been observed.

Comment 32: One commenter points out an apparent contradiction between the statements that no mortalities or serious injuries were directly associated with research activities and a subsequent statement that one calf died during the research activities.

Our Response: Information about research-related mortality was updated in the final SAR as it became available. The sentence that there were no mortalities referred to the research activities of affixing satellite transmitters and collecting skin and blubber samples, while the subsequent sentence referred to a calf mortality that occurred when a boat ferrying researchers passed by a walrus haulout.

Comment 33: One commenter suggested that we include information about captured orphaned walruses in the United States.

Our Response: We agree; the SAR has been updated to reflect the recovery of stranded animals.

Comment 34: One commenter asked for additional information about mortality estimates at haulouts, and questioned why the mortality estimates were not specific (i.e., 187 versus less than 200).

Our Response: The mortality estimates at haulouts provided in the SAR are rough estimates because they are based on a combination of biologist and Alaska Native hunter's observations and counts. We have provided clarifying text to the SAR to reflect the source and nature of this information.

Comment 35: One commenter suggested that the SAR be modified to reflect the level of industrial activity near Hanna Shoal.

Our Response: From 2006 to 2013, two to three operators have conducted activities in the Chukchi Sea annually, but not always near Hanna Shoal. Activities have included mainly geotechnical and environmental studies, but also 2D and 3D seismic activities, and one drilling operation. We anticipate that the level of activity in the foreseeable future near Hanna Shoal will remain the same as that which we have seen in the past 8 years.

Comment 36: One commenter recommended that the Service update information about the amount of tonnage of cargo, including oil products, moving through Russian waters, as the traffic there far exceeds that in U.S. waters.

Our Response: The information presented was the most current on the number of transits at the time the draft SAR was completed. We currently do not have information on the tonnage of cargo moving through Russian and U.S. waters, but will seek a source for this type of information in the future.

References

In accordance with section 117(b)(1) of the MMPA, we include in this notice a list of the sources of information or published reports upon which we based the revised SARs. The Service consulted technical reports, conference proceedings, refereed journal publications, and scientific studies prepared or issued by Federal agencies, nongovernmental organizations, and individuals with expertise in the fields of marine mammal biology and ecology, population dynamics, Alaska Native subsistence use of marine mammals, modeling, and commercial fishing technology and practices.

These agencies and organizations include: the Service, the U.S. Geological Survey, the National Oceanic and Atmospheric Administration, the National Park Service, the Arctic Institute, the North American Wildlife and Natural Resource Conference, the Marine Mammals of the Holarctic V Conference, the Aleutian Islands Risk Assessment Management Team, the Exxon Valdez Restoration Project, and the Outer Continental Shelf Environmental Assessment Program. In addition, the Service consulted publications such as the Journal of Wildlife Management, Conservation Biology, Marine Mammal Science, Ecological Applications, Biological Conservation, Aquatic Mammals, and Journal of Zoology, as well as other refereed journal literature, technical reports, and data sources in the development of these SARs.

A complete list of citations to the scientific literature relied on for each of the four revised SARs is available on the Federal eRulemaking portal (http://www.regulations.gov) under Docket No. FWS-R7-ES-2012-0019. The list can also be viewed in Adobe Acrobat format at http://alaska.fws.gov/fisheries/mmm/reports.htm.

Authority

The authority for this action is the Marine Mammal Protection Act of 1972, as amended (16 U.S.C. 1361 et seq.).

Dated: April 7, 2014.
Daniel M. Ashe,
Director, Fish and Wildlife Service.

[FR Doc. 2014-08942 Filed 4-18-14; 8:45 am]

BILLING CODE 4310-55-P